GULF COAST ECOSYSTEM RESTORATION COUNCIL

2 CFR Part 5900

[Docket Number: 112092015-1111-09]

Federal Awarding Agency Regulatory Implementation of Office of Management and Budget's Uniform Administrative Requirements, Cost Principles, and Audit Requirements for Federal Awards

AGENCY: Gulf Coast Ecosystem Restoration Council.

ACTION: Final rule.

SUMMARY: The Gulf Coast Ecosystem Restoration Council publishes this rule to adopt as a final rule, without change, a joint interim final rule published with the Office of Management and Budget (OMB) for all Federal award-making agencies that implemented guidance on Uniform Administrative Requirements, Cost Principles, and Audit Requirements for Federal Awards (Uniform Guidance). This rule is necessary to incorporate into a regulation and thus bring into effect the Uniform Guidance as required by OMB for the Gulf Coast Ecosystem Restoration Council.

DATES: This rule is effective January 8, 2016.

FOR FURTHER INFORMATION CONTACT: Kristin Smith at 504-444-3558 or Kristin.smith@restorethegulf.gov.

SUPPLEMENTARY INFORMATION: On December 19, 2014, OMB issued an interim final rule that implemented for all Federal award-making agencies the final guidance on Uniform Administrative Requirements, Cost Principles, and Audit Requirements for Federal Awards (Uniform Guidance). In that interim final rule, Federal awarding agencies, including the Gulf Coast Ecosystem Restoration Council (Council), joined together to implement the Uniform Guidance in their respective chapters of title 2 of the CFR, and, where approved by OMB, implemented any exceptions to the Uniform Guidance by including the relevant language in their regulations. The interim final rule went into effect on December 26, 2014. The public comment period for the interim final rule closed on February 17, 2015. The interim final rule was modified on July 22, 2015 (80 FR 43310) to add Appendix XII (Award Term and Condition for Recipient Integrity and Performance Matters) as required by section 872 of Public Law 110-417, as amended (41 U.S.C. 2313).

The Council publishes this final rule to adopt the provisions of the interim final rule. The Council did not request any exceptions to the Uniform Guidance and did not provide any language beyond what was included in 2 CFR part 200. The Council did not receive any public comments on its regulations. Accordingly, the Council makes no changes to the interim final rule.

Classification

Paperwork Reduction Act

This rule contains no collections of information subject to the requirements of the Paperwork Reduction Act (44 U.S.C. 3506). Notwithstanding any other provision of law, no person is required to respond to, nor shall any person be subject to a penalty for failure to comply with, a collection of information subject to the Paperwork Reduction Act unless that collection displays a currently valid OMB Control Number.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

Executive Order 12868

Pursuant to Executive Order 12866, OMB has determined this final rule to be not significant.

Accordingly, the interim rule amending 2 CFR part 5900 which was published at 79 FR 75867 on December 19, 2014, is adopted as a final rule without change.

Will D. Spoon,
Program Analyst, Gulf Coast Ecosystem Restoration Council.

[FR Doc. 2015-30922 Filed 12-8-15; 8:45 am]

BILLING CODE 3510-EA-P